ENVIRONMENTAL PROTECTION AGENCY

[FRL-7093-9]

Investigator-Initiated Grants: Request for Applications

AGENCY: Environmental Protection Agency.

ACTION: Notice of request for applications.

SUMMARY: This notice provides information on the availability of fiscal year 2002 investigator-initiated grants program announcements, in which the areas of research interest, eligibility and submission requirements, evaluation criteria, and implementation schedules are set forth. Grants will be competitively awarded following peer review.

DATES: Receipt dates vary depending on the specific research areas within the solicitations and are listed below.

FOR FURTHER INFORMATION CONTACT: U.S. Environmental Protection Agency, National Center for Environmental Research (8703R), 1200 Pennsylvania Avenue, NW., Washington DC 20460. The complete announcement can be accessed on the Internet from the EPA home page: http://www.epa.gov/ncerqa under “announcements.”

SUPPLEMENTARY INFORMATION: In its Requests for Applications (RFA) the U.S. Environmental Protection Agency (EPA) invites research grant applications for the following areas: (1) Epidemiologic Research on Health Effects of Long-term Exposure to Ambient Particulate Matter and Other Air Pollutants and (2) Development of Watershed Classification Systems for Diagnosis of Biological Impairment in Watersheds. Applications must be received no later than 4 p.m. ET on January 18, 2002 for topic (1) and January 30, 2002 for topic (2). The RFAs provide relevant background information, summarize EPA's interest in the topic areas, and describe the application and review process.

Contact persons for the Particulate Matter RFA are Stacey Katz (katz.stacey@epa.gov), telephone 202-564-8201 and Gail Robarge (robarge.gail@epa.gov), telephone 202-564-8301. Contact person for the Watershed Classification RFA is William Stelz (stelz.william@epa.gov), telephone 202-564-6834.

Dated: October 1, 2001.
Peter W. Preuss,
Director, National Center for Environmental Research.

[FR Doc. 01-25966 Filed 10-15-01; 8:45 am]

BILLING CODE 6560-50-P